DEPARTMENT OF DEFENSE

Office of the Secretary

Modification to Announcement of Intent To Initiate the Process To Remove Aeronautical Information From Public Sale and Distribution

AGENCY: National Geospatial-Intelligence Agency (NGA), Department of Defense.

ACTION: Notice modification.

SUMMARY: After initial feedback from the public on NGA's notice in Federal Register Volume 69, Number 222, pages 67546-67547, NGA has determined that a period of public comment will benefit the final decision on this policy issue. Therefore, NGA is inviting public comment on the proposed action to withdraw aeronautical data and products from public distribution. The period of comment will be open from the date of this Register until 30 June 2005. NGA will consider all comments when making the final decision to go forward with this proposed action, in part, in whole, or not at all.

DATES: Period of Public Comment: December 17, 2004 to 30 June 2005. Proposed Implementation Date of final Decision: 1 October 2005.

ADDRESSES: To make sure your comments and related material are entered only once in the docket please submit them by only one of the following means:

(1) By e-mail to aero.ocr@nga.mil; or

(2) By mail to: National Geospatial-Intelligence Agency, Mail Stop D-111, Attn: Public Release of Aeronautical Products, 4600 Sangamore Road, Bethesda, MD 20816-5003.

Dated: December 13, 2004.
Jeannette Owings-Ballard,
OSD Federal Register Liaison Officer, Department of Defense.

[FR Doc. 04-27645 Filed 12-16-04; 8:45 am]

BILLING CODE 5001-06-M